FEDERAL MARITIME COMMISSION

[Docket No. 23-11]

Notice of Filing of Complaint and Assignment; Bal Container Line Co., Limited, Complainant v. SSA Marine Terminal and SSA Terminals (Pier A), LLC, Respondents

Served: October 19, 2023.

Notice is given that a complaint has been filed with the Federal Maritime Commission (the “Commission”) by Bal Container Line Co., Limited (the “Complainant”) against SSA Marine Terminal and SSA Terminals (Pier A), LLC (the “Respondents”). Complainant states that the Commission has jurisdiction over the complaint under the Shipping Act of 1984, as amended, 46 U.S.C. 40101 et seq., and jurisdiction over the Respondents as a marine terminal operator.

Complainant is an entity with a principal place of business in Hong Kong and a vessel operating common carrier.

Complainant identifies Respondent SSA Marine Terminal as a Delaware limited liability company with a principal place of business in Seattle, Washington.

Complainant identifies Respondent SSA Terminals (Pier A), LLC as a limited liability company with a principal place of business in Seattle, Washington.

Complainant alleges that Respondents violated 46 U.S.C. 41102(c) and 46 CFR part 545 regarding a failure to establish, observe, and enforce just and reasonable regulations and practices relating to or connected with receiving, handling, storing, or delivering property. Complainant alleges these violations arose from an assessment of a flat rate congestion surcharge without a stated relationship to actual terminal congestion and continued assessment of congestion surcharges while containers were placed in inaccessible terminal areas.

An answer to the complaint must be filed with the Commission within 25 days after the date of service.

The full text of the complaint can be found in the Commission's electronic Reading Room at https://www2.fmc.gov/readingroom/proceeding/23-11/. This proceeding has been assigned to the Office of Administrative Law Judges. The initial decision of the presiding judge shall be issued by October 21, 2024, and the final decision of the Commission shall be issued by May 5, 2025.

Carl Savoy,
Federal Register Alternate Liaison Officer, Federal Maritime Commission.

[FR Doc. 2023-23491 Filed 10-24-23; 8:45 am]

BILLING CODE 6730-02-P